DEPARTMENT OF TRANSPORTATION

[Docket No. FRA-2014-0011-N-10]

Federal Railroad Administration

Agency Request for Emergency Processing of Collection of Information by the Office of Management and Budget

AGENCY: Federal Railroad Administration (FRA), United States Department of Transportation (USDOT).

ACTION: Notice.

SUMMARY: FRA hereby gives notice that it is submitting the following Information Collection request (ICR) to the Office of Management and Budget (OMB) for emergency processing under the Paperwork Reduction Act of 1995. FRA requests that OMB authorize the collection of information identified below on May 13, 2014, for a period of 180 days.

FOR FURTHER INFORMATION CONTACT: A copy of this individual ICR, with applicable supporting documentation, may be obtained by calling FRA's Clearance Officers: Robert Brogan (tel. (202) 493-6292) or Kimberly Toone (tel. (202) 493-6132); these numbers are not toll-free), or by contacting Mr. Brogan via facsimile at (202) 493-6216 or Ms. Toone via facsimile at (202) 493-6497, or via email by contacting Mr. Brogan at Robert.Brogan@dot.gov; or by contacting Ms. Toone at Kim.Toone@dot.gov. Comments and questions about the ICR identified below should be directed to Docket No. DOT-OST-2014-0067 at the following site: http://regulations.gov.

Title: DOT Secretary's Emergency Order Docket No. DOT-OST-2014-0067.

Reporting Burden:

Emergency Order Item No. | Respondent universe | Total annual responses | Average time per response | Total annual burden hours
(1) RR Notification to SERCs | 47 railroads | 120 written notifications | 30 hours | 3,600 hours.
(2) Updated RR Notification to SERCs | 47 railroads | 25 updated written notifications | 4 hours | 100 hours.
(3) Notification Copies to FRA | 47 railroads | 10 notification copies | 60 minutes | 10 hours.
(4) Requests to RRs by SERCs for Information from Local Emergency Response Agencies Regarding the Volume and Frequency of Train Traffic Implicated by this Emergency Order within that Agency's Jurisdiction and RR Responses | 47 railroads | 30 informational assistance requests + 30 informational responses | 30 minutes | 60 hours.
(5) Petitions to the Secretary/FRA Administrator for Relief from This Emergency Order | 47 railroads | 4 relief petitions | 2 hours | 8 hours.

Form Number(s): N/A.

Respondent Universe: 47 Railroad Carriers; 50 State Emergency Response Commissions (SERCs).

Frequency of Submission: One-time; on occasion.

Total Responses: 219.

Estimated Total Annual Burden: 3,778 hours.

Status: Emergency Review.

Description: On May 7, 2014, the Secretary of Transportation issued Emergency Order Docket No. DOT-OST-2014-0067 (EO), requiring affected railroad carriers to provide certain information to the State Emergency Response Commissions (SERCs) for each State in which their trains carrying 1 million gallons or more of Bakken crude oil travel. The EO is available through the Department's public docket system at www.regulations.gov, under Docket No. DOT-OST-2014-0067. The EO is the Department's direct and proactive response to a recent series of train accidents involving the transportation of petroleum crude oil, a hazardous material the transportation of which is regulated by the Department. The most recent accident occurred on April 30, 2014, when a train transporting petroleum crude oil derailed in Lynchburg, Virginia and released approximately 30,000 gallons of its contents into the James River. Further, the EO explains that, with the rising demand for rail transportation of petroleum crude oil throughout the United States, the risk of rail incidents has increased commensurate with the increase in the volume of the material shipped and that there have been several significant derailments in both the U.S. and Canada over the last several months causing deaths and property and environmental damage that involved petroleum crude oil. DOT emergency orders are rare and the EO itself describes the most recent accidents and circumstances leading the agency to issue the EO. The collection of information included under this EO is aimed at ensuring that railroads that transport in a single train a large quantity of petroleum crude oil (1 million gallons or more), particularly crude oil from the Bakken shale formation in the Williston Basin, provide certain information to the relevant SERCs in each State in which the railroad operates such trains. Ensuring that railroads provide this information to SERCs is critical to ensuring that local and State emergency responders are aware of the large quantities of crude oil that are being transported through their jurisdictions and are prepared to respond to accidents involving such trains should they occur.

As provided under 5 CFR 1320.13, Emergency Processing, DOT is requesting emergency processing for this new collection of information as specified in the Paperwork Reduction Act of 1995 and its implementing regulations. DOT cannot reasonably comply with normal clearance procedures because the use of normal clearance procedures is reasonably likely to disrupt the collection of information. The EO takes effect immediately upon issuance, although the railroads have 30 days to provide the required information to the SERCs. Under the EO, railroads must immediately initiate steps to implement the Order, and if notification is not made to a SERC within 30 days of the EO's issuance, a railroad is prohibited from transporting Bakken crude oil in large quantities single trains in any state until such notification is made. Ensuring States and emergency responders are aware of the large quantities of Bakken crude oil moving through their jurisdictions and having the opportunity to appropriately prepare to respond to any potential incidents involving these trains is critical to ensuring safety and mitigating any impacts if a rail accident/incident does occur. DOT finds this collection of information is essential to the mission of the agency, and it is, therefore, requesting OMB approval of this collection of information as soon as possible.

Upon OMB approval of its emergency clearance request, DOT will follow the normal clearance procedures for the information collection associated with the EO.

Pursuant to 44 U.S.C. 3507(a) and 5 CFR 320.5(b), 1320.8(b)(3)(vi), FRA informs all interested parties that it may not conduct or sponsor, and a respondent is not required to respond to, a collection of information unless it displays a currently valid OMB control number.

Authority: 44 U.S.C. 3501-3520.

Issued in Washington, DC on May 8, 2014.
Erin McCarthy,
Acting Chief Financial Officer.

[FR Doc. 2014-10991 Filed 5-12-14; 8:45 am]

BILLING CODE 4910-06-P